FEDERAL COMMUNICATIONS COMMISSION

47 CFR Part 73

[DA 03-1118; MM Docket No. 01-143; RM-10153]

Radio Broadcasting Services; Fishers, Indianapolis and Noblesville, IN

AGENCY: Federal Communications Commission.

ACTION: Final rule.

SUMMARY: This document at the request of INDY LICO, Inc., licensee of Stations WGRL(FM), Noblesville, Indiana, and WGLD(FM), Indianapolis, Indiana, reallots Channel 230A from Noblesville, Indiana, to Fishers, Indiana, as the community's first local transmission service, and modifies Station WGRL(FM)'s license to reflect the change of community. It also reallots Channel 283B from Indianapolis to Noblesville, Indiana, to retain the community's first local transmission service and modifies Station WGLD(FM)'s license to reflect the change of community. An amendment filed by petitioner requesting an alternate site for Channel 230A at Fishers that would be short-spaced to Station WQKC(FM) at Seymour, also proposing to substitute Channel 230A for 229B at Seymour, reallot Channel 230A from Seymour to Sellersburg, Indiana, and modify Station WQKC's license to reflect the change of community, is dismissed and considered in a new docket simultaneously. Channel 230A is reallotted from Noblesville to Fishers at Station WGRL(FM)'s licensed site 7.1 kilometers (4.4 miles) north of the community at coordinates 40-00-55 NL, and 85-58-58 WL. Channel 283B is reallotted from Indianapolis to Noblesville at WGLD(FM)'s licensed site 26.9 kilometers (16.7 miles) southwest of the community at coordinates 39-50-25 NL and 86-10-34 WL.

DATES: Effective July 14, 2003.

ADDRESSES: Secretary, Federal Communications Commission, Washington, DC 20554.

FOR FURTHER INFORMATION CONTACT: Victoria M. McCauley, Media Bureau, (202) 418-2180.

SUPPLEMENTARY INFORMATION: This is a synopsis of the Commission's Report and Order, MB Docket No. 01-143, adopted May 28, 2003, and released May 30, 2003. The full text of this Commission decision is available for inspection and copying during normal business hours in the FCC's Reference Information Center at Portals II, CY-A257, 445 Twelfth Street, SW., Washington, DC. This document may also be purchased from the Commission's duplicating contractors, Qualex International, Portals II, 445 12th Street, SW., Room CY-B402, Washington, DC 20554, telephone 202-863-2893, or via e-mail qualexint@aol.com.

List of Subjects in 47 CFR Part 73

Radio, Radio broadcasting.

Part 73 of Title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Indiana, is amended by adding Fishers, Channel 230A, by removing Channel 283B at Indianapolis, and by removing Channel 230A and adding Channel 283B at Noblesville.

Federal Communications Commission.
John A. Karousos,
Assistant Chief, Audio Division, Media Bureau.

[FR Doc. 03-15071 Filed 6-13-03; 8:45 am]

BILLING CODE 6712-01-P